DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending September 30, 2023. For purposes of this listing, long-term residents, as defined in section 877(e)(2), are treated as if they were citizens of the United States who lost citizenship.

Last name | First name | Middle name/initials
ABRAHAM | ANDREW | ROSS
ACHESON | ANDREW | DAVID
ACHLEITNER | ULRIKE | K.
ACRES | DANIELLE | IRENE
AGEE | WILLIAM | RAIFORD
ALBERGA | BIANCA | ASHLEY
ALBRECHT | ECKHARD
ALBRECHT | KARIN
ALBUQUERQUE (BANDEIRA) | ALICIA | LYN
ALCOCK | CLIVE | FREDERICK
ALLARDYCE | TARA | ASHLEY
ALLEN | DANIEL | MARSDEN
ALLEN | ROSEMARY
ALPAGOT | TOLGA
AMDUR | KARL | EDWIN
ANDERSON | ANNE | MARIA
AUERBACH | GEORGE | DAVID
AVENDANO GARCIA | ALLAN
BAER | ALEJANDRO | WALTER
BAHRAMI | ADAM
BAILEY | LAUREL | ANN
BAINBRIDGE | JANE | MARGARET
BALPARDA DE CARVALHO | DANIEL
BARKER | GUY
BARONES VAN VERSCHUER | NORA
BARRETT | DONALD | LESLIE
BASILE | RAFFAELLA
BAUER | NATALIE
BAUMGARTL | JUERGEN | REMUS
BEARFIELD | KARA | LYNN
BEERLI-HESS | CORINA | MAUREEN
BELLUCE | MARCIA | NORIHI
BENARY | DANIELA
BENDER | HANNAH | SARAH
BERGERON | MARIO
BERGMANN | ROBERT | MICHAEL
BERNSTEIN | MINDA | DIANNE
BERTSCHY | PATRICK | FRANKLIN
BICKNELL | ANDREW | ROY
BIGGS | JULIA | MIRIAM
BILTON | SIMONE | ELOISE
BIRCH | SARAH
BIRD | JONATHAN | DAVID
BLAIR | MINA | LOUISE
BOEHM | NICOLA
BOENISCH | KEVIN | MAIK
BOGIE | CRAIG | ARMSTRONG
BON | JULIETTE | MARIE
BORITZ | TALI | ZWEIG
BOWLES | TOMOKO | OKUMURA
BOWMAN | JESSE | JENNIFER MAY
BOYTS | CATHERINE | MARGARET
BRANDIS | LENA | SOPHIE ELISABETH
BRASALI | ADRIAN | PUTRA
BRENNAN | COLLEEN | PATRICE
BRENT | MICHAEL
BRESTON | DANIEL | M.
BRIGGS | SUZZANNE | MOREY
BRIGHT | NIGEL | DAVID
BROCHU | SEBASTIEN | W.
BROWN | ASHLEY | DAWN
BRUELL | JOSHUA | FELIX MCINTOSH
BRUNYEE | SASHA | CORINNE
BUFFAM | ELEANOR | LUCY
BULLOCK | BONNIE | ANN
BURATY | CARY | ANNE
BURCIN | MARK | MATHEWS
BUREAU | CHRISTINE
BURKE | EUGENE | JOSEPH
BURNER | OLESSIA | VICTOROVNA
BUYUKLIEV | JORDAN | KOLEV
BYDELEY | NATHALIE | LORRAINE
CAI | ZHIJUAN
CAIN | PAUL | ALAN
CALDWELL | KARL | DOUGLAS
CALVERT | JUSTIN | JAMES
CAMPBELL | INA | JANELE
CAMPBELL | SONYA | JOY
CAMPBELL-KELLY | VINCENZA | FRANGELLA
CANION | MARGARET | JEAN
CARNER | ROBIN | ANN
CARNER | THEODORE | CLYDE
CARON | ISABELLE
CAVAIONI | MICHELE
CAVIGELLI | MORITZ | GIACUN
CEROVSKY | JAN
CHAISAWANGWONG | KAI
CHANDRAN | SHARMAN | R.
CHANEY | KATHERINE | ELLA
CHANG | ALEXIS | KOJI
CHAUSSE | ALEXANDRA
CHEN | AI-YANG
CHEN | CHING | NEW
CHEN | JANNIE
CHEN | YALI
CHEN | YI
CHEN | YUBING
CHEN | YU-WEN
CHESHIRE | MOE
CHIN | MARGARET
CHOY | DAVID | W.
CHOY | SANDRA | ELIZABETH
CHU | SUN | HEE
CHURCHILL | CHIRSTOPHER | ALEXANDER MACKENZI
CIIFTON | JUSTIN | MICHAEL
CLARE | LAWRENCE | JOHN
CLEMENS | JANE | MARIE
COELHO | LUCIANA | SPENGLER
COLAK KAYA | DILEK
COLCLOUGH | HEATHER | ELIZABETH
COLE | JULIE | CHRISTINE
COLLIN DE CASAUBON | DIDIER
COLUCCI | LESLIE | ANN
COMEAU | KAREN | DAWN
COMPTON | JANICE | D.
COMRIE | MICHELLE
CONARD | JULIE | ANNA
CONSTABLE | ELIZABETH | LOUISE
CONTRERAS STEINGGER | CHRISTINE | BARBARA
COOPER | ALEXANDRA | GRACE SHELLEY
COOPER | QUINN | BLINKHORN
CORMIER | JAMES | RAYMOND
CORVEE | REGIS | ALAIN LOUIS
COTTINGHAM | MYRA | LEE
COURTIS | FIONA | SUSAN
COX | SIMONE
CRETTON | CURTIS | SCOTT EN
CROW | ANNA | MARIA
CROW | JASON | BRIAN
CUCKNELL | MICHAEL | JAMES
CURVERS | DOROTHY | MARY
DALY | LESLEY | LOUISE
DAOUK | HAZEM | BASHIR
DASWANI | KRISHA
DAULTON | FRANK | ERWIN
DAVIE | BRUCE | STUART
DAWSON | HEATHER | YVONNE
DAWSON | WILLIAM | ROSS
DE JONGH | ROBERT | PIER
DE KALBERMATTEN | ROCH | MARIE
DELANEY | LACHLAN | ROSS
DEPRENDA | MICHAEL | JOSEPH
DERKSEN | KRISTEN
DEVROYE | JEAN-MARC
DICK | CARY | JEAN
DITTMAR | LJILJANA
DOBSON | CHRISTOPHER | JOHN
DOCHEVA | VESELA | PLAMENOVA
DOTY | CORINNA | SABINE
DOYLE | ROZANNE | ELIZABETH
DREISSIGACKER | MICHAEL
DROWN | DENNIS | JOHN
DUBE | GILLES | DENIS
DUBOIS | EVELYN | MARY
DUBOIS | ROBERT | JOSEPH
DUIGNAN | THOMAS | MICHAEL
DUMONT | LAURENT | RAYMOND
DURST | CHARLENE | WILLA
DURST | ROGER | DAVID
E STIBBE | MATHILDE | MARIA JOANNA
EATON | NORMAN | JOHN
EILEY | JOAN
ELAFROS | ATHENA
ELIAS | ISABELLA
EMMETT | PETER | DANIEL
FAIRRIE | NICHOLAS | ANTHONY
FALZON | ANDREA | LOUISE
FARNEBORN | MAUD | C.
FENEBERG | STEPHANIE | ELLEN
FENG | TSU | Y.
FERGUSON | MARGARET | ELLEN
FERLAND | GILBERT
FERLAND | SYLVAIN
FERRIS | EILY | KAYO
FIPPS | LANCE | ALBERT
FLEMMIG | THOMAS | FRANK
FOFFANO | JENNIFER | ALANA
FORBES | SHAUNA | ELAINE
FORD | ALYSSA | MARTHA
FORD | MICHAEL | JOHN
FOSCARI WIDMANN REZZONICO | NICOLO | SEBASTIANO
FRANGELLA | PIETRO
FRENZEL | MICHAEL | HEINZ FRANZ
FRESCO | MONICA | SOFIA
FRITZSCHE | HOLGER | BRIAN
FROESE | ESRA | VAUGHN
FRY | HANNAH | LOUISE
FU | QIHONG
FUCHS | RALPH | JOACHIM
FURBY | RICHARD | JOHN
FUSE | YUKO
GARCIA DE BEDIA | AYMETH | YORIELA
GATES | JUSTIN | LOUISE BRETT
GATZEN | MATTHIAS | MAXIMILIAN
GAVIGNET | JULIEN
GELINAS | YVAN | GUILBERT
GELLER | MARION | IRMA
GENTLES | ROY | ALEXANDER
GEORGE | KATHRYN | ELIZABETH
GEREIGE | ROBERT | JOSEPH
GERVAIS | DAVID | PAUL
GIULIANI | ROBERTO
GLASER | WENDY | L.
GOCMEN | HASIBE | BELGIN
GOODIN | ROSS | ETHAN
GOODWIN | DAVID | GORDON
GOREN | OFER | ANDREW
GORMAN | SEAN | PATRICK
GORTON | HEATHER | MARY
GOSSIN | ENID
GOUDREAU | JOEY | PAUL
GOULDING | CHRISTOPHER | DONALD
GRAHAM | JAMES | ANTHONY
GRANT | JANE
GREGER | WALTER | JAKOB
GRIFFIN-CHADD | PATTI | J.
GRIMM | FABIAN | ALEXANDER
GUARDA | JOHANNE
GUEVARA MANZO | GLORIA | REBECA
GUILMETTE | DANIELLE | JASMYNE
GUO | LIH | SHIEW
GUO | QIAN
GUPTA | SHWETA
HAH | HEA | SUN
HAH | YOUNG | DUKE
HALL | JONATHAN | MARK
HALL | SANDRA | LYNN
HAMAOKA | CHISATO
HAMMER | DAVID | MICHAEL
HAMPSON | NANCY | LYNN HYNDMAN
HAMPSON | ROBERT | BYRON
HANBURY-WILLIAMS | CATHERINE | MADELEINE
HANDFORD | CLARE | NANCY
HANFORD | CHRISTOPHER | WAITES
HARA | HIDEMI
HARRIGAN | DONNA | MARIE
HARRIGAN | SARAH | MARIE
HAYHOE | COLE | DEAN
HAYHOE | MADISON | LERUE
HAYHOE | SYDNEY | BRIANNE
HEBBLETHWAITE | JAMES | ANDREW LEWIS
HECHLER-MASSEL | KATRIN
HEERSINK | ROLAND | EDUARD
HEIKOOP | GLYNIS | ANN
HEIMGARTNER | FREDERIC | RENE
HELLER | ALEXANDRA | JO
HELSEN | SVEN | F.
HENRY | JOHN | STEWART
HERRERA | HECTOR
HILDER | MARIE
HILDER | NICHOLAS | ANTHONY
HILLS | VINCENT | JEFFREYY
HINO | MASAHIKO
HIRAKAWA | FUMIO | MATHIAS
HOELLER | OLIVER
HOFER | MAX | ANDRES
HOFFMAN | LARA
HOFSTEDT | MAUREEN | ELIZABETH
HOLLINGTON-ROSENBERG | BARBARA | ANN
HOSHI | MIYUKI
HUBER | ULRIKE
HUO | YUJIA
HURST | RONALD | FREDERICK
HUTABARAT | MARISSA | NOVITA
IKARI | EMIKO
ISHKANIAN | JAMES | PETER
ITAKURA | SHUZO
JACKSON | JASON | KENNETH
JACKSON | WARREN | CARVER
JACOBS | MARY | CATHERINE
JACOUPY | PIERRE | ERIC DANIEL
JAEGER | KAREN | ELSE
JAFFAR | HASSAN | ISSA
JALBERT | JEAN | CLAUDE PHILIPPE
JANSEN | GAILE
JANSEN | MARTINUS | JOSEPHUS
JANSON | FRANCISCA | CRISTINA ZEVEN
JANSZEN | PAMELA | JOY
JEFFERSON KNOWLAND | THOMAS | WILLIAM
JIANG | YIBO
JOHANSEN | MALIN | HANNA MARGARETHA
JOHNSON | MATTHEW | DALE
JOHNSTON | CYNTHIA | ANN
JOHNSTON | TAMARA | DAWN
JONES | RACHEL | ELIZABETH
JUDD | IAN | D.
JUNG | DEREK | KUBUM
JUNG | IN | SUNG
JUNG | OK | JU
JURASKOVA | KATERINA
KALLAN | RONALD | JAY
KAMEL | CHERIF | F.
KARAKACHIAN | ROUPEN | NAZAR
KARLI | SANDRA | YVONNE
KARLI | WENDY | SARAH
KARLI NUNEZ | MARLENE | JUANA
KASKI | SAMULI
KATO | AIKO
KATO | CHIHIRO
KAUKE | MONIQUE | JACQUELINE
KAWAI | HIROYUKI
KAWANA | TETSUNORI
KAYA | NAMIK
KEE | JAMES | JEFFERSON
KEMP | TRISTAN | SIMON
KENYON-JONES | MARION | B.
KERRIDGE | LILY | CHRISTABEL ROSE
KERRIDGE | VIOLET | HELOISE DAISY
KHAIRI-TARAKI | TARRIN | MOHAMMAD
KIEFFER | THOMAS | MICHAEL
KIEFFER-JONES | OWEN | ANDREW
KIM | ALAN | EDWARD
KIM | JOONBAE
KIM | KYUNGHEE
KIM | OKJA
KIMURA | KEIKO
KING | JANET | CLARE
KING | SOPHIA | QUILTY
KISE | MIKAELE | DENHAM LEE
KLAUKE | SOPHIE | LUISE
KLEINENBERG | OLIVER | BENJAMIN
KLUIVERS | RAYMUND | FRANCISCUS ALOYSIUS
KOBAYASHI | MAYUMI
KOBAYASHI | TAKASHI
KOCH | LAUREEN | MARISA
KOMATSU | EMIKO
KOMATSU | TAEKO
KOMAZAKI | EMI
KONISHI | SAEKO
KOTANI | YURIKO
KOUTSOURAS | BILL
KOWAGUCHI | CHIAKI
KOWAGUCHI | KEITA
KRANJC | STANLEY | RUDOLPH
KRATZER | CARL | PHILIP
KRAUS | JACQUELINE | LARK
KRAUSS | JENNIFER
KREHM | RACHEL | LILY GLADYS
KRUGLAK | KATHRYN | ANYA
KUEHN | JEMIMA | SYBIL
KUHA | REIJA | IRENE
KUO | JENG | YIH
KWOK | ZOE | ANNABELLE
LAMARE | DIANA
LAMBETH | NATALIE | SARAH
LAMIN | NICHOLAS | JOEL WILLIAM
LAMIN | STEPHANI | MARIE
LANDRY | GUYLAINE | MARIE
LANGE | VOLKER | ANDREAS
LASTERNAS | BERTRAND
LECLERC | CHRISTINE | MICHELLE
LEE | CHUNGHWAN
LEE | HUI | YI
LEE | HYUN | JUNG
LEE | KANG | HO
LEE | SEUNG | HWAN
LEE | SEUNGMIN
LEE | TI-TIEN
LEE | WON | SIK
LEFEBVRE | GILLES
LEJAY | VICTOR | JAMES JOSEPH
LENCI | CARY | ANNE
LENTILE | MARKUS | LANIER
LEVI | DANA
LEVIN | LORAINE | NANCY
LEWIS | TAYLOR | AMURI
LI | XIMEI
LIANG | XINGPING
LIEBLICH | JILL | KAREN
LIECHTI | RACHEL | MORGAN
LIM | LYNETTE | MAY TJUEN
LIN | SHU-FAN
LINGWOOD | ELIANE | AGNES
LIOY | MARCELLO | V.
LIPPONER | MARCUS | AMERICANUS
LITSIOS | STEVEN | C.
LIU | SHUO
LIU | XIN
LIVINGSTONE | ANDREA | DORA
LOPUSHANSKAYA | EVGENIA
LOVATT | ANNA
LOWBEER-LEWIS | JULES | JACK
LU | MING-GEAN
LUBELSKY | BRIAN | CHARLES
LUBIN | ANDREW | JARGER
LUMB | YVONNE
LUYI | SUMULIDA
LYNDON-JAMES | PERRY
MACAYA | JAVIER | F.
MACK | KAREN | A.
MACKENZIE | LYNN | RYAN
MACKINNON | BRYAN | JAMES
MACKLIN | SUSAN | MARY
MAHMUD | SARA | SADIQA
MALONEY | JEAN-SEBASTIEN
MANAVADUGE | EVA
MANSON | BARBARA | ANN
MANSUY | CHARLES | LINDSAY
MARATHE | BHARAT | CHANDRASHEKHAR
MARKS | JAYNE | DIANA
MAROZZI | MANUEL | JOHANN PHILLIPP
MARQUEZ LOPEZ | MARTIN | S.
MARTIN | CHRISTINE
MARTINEZ MOLLER | CARLOS
MASTERSON | LAWRENCE | JAMES
MATHIS | JAMES | EUGENE
MATOS | JOSEPH | JAN
MATSUURA | KUMIKO
MATTE | DOMINIQUE | MICHELLE
MATTHEWS | ANDREW | VAUGHN
MAZZURCO | DANIELLE | MARIE
MCBARRON | MARTHA | ASHBROOK
MCCALLISTER | DAVID | RYAN
MCCARTHY | DAVID | MICHAEL
MCCARTHY | SABRINA
MCCORKINDALE | CAROL | A.
MCFARLANE | PHILIP | HOWARD
MCFARLANE | SHEILA | ELAINE
MCLEOD | THOMAS | WILSON KIDD
MCLEOD-WALLER | ANN | ELIEZAEBTH
MCNEILAGE | RILEY | ADELE
MCRITCHIE | LEAANNE | THERESA
MCRITCHIE | MICHAEL | JEROME
MEAD | KENNETH | JAMES
MEAD | RUTH | ANN
MELCHY | PIERRE | ERIC MICHAEL ALIX
MELICHAR | MIROSLAV
MENARD | BERTRAND | PHILIPPE
MIKLOSI | BERTALAN | JOSEPH
MILGRAM | NORTON | WILLIAM
MILLS | NATHAN | DANIEL
MINICK-SCOKALO | TAMARA | LEE
MINO | RYUMA | JASON
MINTER (PETERSON) | MARRIANNE | FRANCHOT
MOHAMED | YASSER | ALI NOUR ELDIN
MOODY | JILL | ELIZABETH
MOONEY | ROBYN | GAY
MOORE | JOYCE | LUCAS
MOORE | MELANIE | HELEN
MORALES | EDGAR | RUBEN
MORAWSKI | ANNA | CHRISTINA
MORGAN | MATHILDE | MARIE MADELEINE
MORIMOTO | KATSUHIKO
MORIMOTO | YUKO | IWATA
MOROSS | DOMINIC | HENRY
MOSAWI | ANTHONY | S.
MOSHFEGH-BUTIKOFER | HELEN | ANNE
MOSKOVITZ | KAREN | RUTH
MOSTEK | JOHN | PETER
MUELLER | THOMAS | ADRIAN KEKOA
MUKHERJEE | NATASHA | INDIRA
MUN | JAE | HWA
MURPHY | SARAH
MYLER | LYNDA
NADEAU | STEPHANIE | ANGELL
NAGAMORI | MIYAKO
NAKASHIMA | MICHIKO
NAKASHIMA | TOMOHIRO
NAMBA | HARUNA
NANAVATI | AJAY | VIPIN
NARUMI | AYAKO
NARUMI | SHIGENOBU
NASR | YVAN
NASSER | MOHAMMAD
NAUNTON | DARCY | ALEXANDER
NEGRE | JEAN | LUC
NEITENBACH | RONJA-MARIE | ANNICK
NENKOV | MARIA | ELENA
NESKE | RICHARD | GERALD
NEUMANN | CHRISTOPHER | KURT
NEWCOMBE | ELIZABETH | ANNE
NEWMAN | STEVEN | MICHAEL
NEWTON | MICHAEL | JONATHAN
NICHOLS | LINDA | LEA
NICHOLSON | FRANCIS
NIELSEN | DORTHE | SCHERLING
NII | KAZUO
NILSEN | TRINE
NISHIMURA | YOSHIE
NOMURA | KUMIKO
NOWACK | VIRGINIA | RUTH
NOWAK | ANGELA | INGEBORG
NUFFIELD | JAMES | EDWARD
NUTTGENS | JONAH | EDWARDS
NYENKAMP | COLE | ROBERT LEE
O'BRIEN | SHAUN | PETER
O'BRIEN | IAN
OCHSNER | SUSANNE | HELEN
ODELL | ROBERT | THOMAS H
OH | JUNG | HEE
O'SHEA | PAUL | CHRISTOPHER
OSUGI | KAZUMI | I.
OSUGI | YUTARO
OWEN | JAMES | DAVID EADMUND
OZAWA | MASAYO
PAGE | BROOKE | DEBORAH
PAGE | CYNTHIA | RAE
PALMER | EMPYREAL | ELIZABETH RHODA
PAPOUTSIS | GEORGIOS
PARHAM | BARBARA | JANE
PARK | IN | SEUP
PARK | KUNG | SAM
PARK | SOHYUN
PASHAYAN | CHARLES | MARK
PASQUET | SYLVIANE | MARIE PIERRE
PATEL | KAJAL
PATEL | KAUSHIK | VINUBHAI
PATEL | KOMAL
PATEL | PUNITA
PATUELLI | FLAVIO | ANGELO
PATUELLI | LAURA | LORET
PAYNE | DALRY | BARBARA
PEACOCK | LYNDA | MARIE KUNZE
PEARCE | TIMOTHY | BATTEN
PEARSON | DANIEL
PEIROTES | CARINE | FRANCOISE NATALIE
PERALTA | SPOCK | ALLEN
PERLINO | ALESSIA | ELIZABETH
PESO | TAMARA | ANNA
PETROVSKA | LIDIA
PHUA | STELLA | HUI LI
PIAZZA | TITO
PILON | LISA | DIANE
PINEDA SIERRA | ELIAS
PINNER | DONNA | MARIE
PINNER | MARK
PIROS | JAN | MIECZYSLAW
POIRIER | JEAN | BERNARD J.
PRESCOTT | SHOKO
PRIESTER | KATELYN
PUGH | SIMON | JAMES
QUINTANANILLA ARGUELLES | ANA | PAULA
QURESHI | SHAHAB
RACHELLO | ACHILLE
RAHAL | TANIA
RALPH | MICHAEL | GERARD
RAMSEY | CHRISTOPHER | BRONK
RAWADY | DENNIS | ALEXANDER
RAWADY | WENDY | ELIZABETH
RECALDIN | STEPHEN
REESE | JULIA | L.
REGE | SAMEER | PRAKASH
REIACH | JUDITH | A.
REIF | EDWARD
REN | HONGZHI
RENDEL | EWEN | WILLIAM
RENDEL | HEATHER | ROSEMARY
RHA | ILJU
RIBOTTO | GREGORY | PAUL
RICHARDSON | KAREN | LEE
RIEDI | MARCEL | PLAZI
RITCH | ANTONY | STEWART
RITCHIE | GARY | THOMAS
ROBERTSON | JUNKO | MIYAKOSHI
RODRIGUEZ | TANIA
RODRIGUEZ BASAVILBASO CUBILLO | LUZ
ROSS | HOWARD | TERRENCE
ROSSLER | CECILIA | ERICA
ROZDAY | DANIEL | JOHN
RUESS | FREDA | MARIA
RUFATT | LISA | MARIE
RUSTOMJI | SANDRA
SAGGAU | PETER | HANS OTTO
SAGGAU | RENATE | MARIA ELISABETH
SALZBERG | ELICIA | LIN
SAMYN | DOMINIQUE | MARIE PAULE
SANDILYA | MITA | BHATTACHARYA
SANSOY | AFET
SASAKI | HIROSHI
SATO | MOTOHIRO
SAWAF | KARIM
SAWAF | LANA | M.
SAXTON | NEIL
SCEATS | ANTHONY | CHARLES
SCELI | CATHY | GAIL
SCELI | DANIEL | EDWARD
SCHARMANN | ULRIKE
SCHERER | FRANK | M.
SCHLEMMER | PATRIC | JOHANNES
SCHMEISTER | RYAN | CHRISTOPHER
SCHMIDT | JUSTIN | RYAN
SCHNEIDER | JONATHAN
SCHNEIDER | CHRISTINE | ANN
SCHOON | KEITH | CLAYTON
SCOTT | PHILIP
SCULLY | MARILYN | LYNN RYERSON
SELIGER | JOERG
SHAFFER | PAUL
SHAK | MICHAEL | BYRON
SHAKESPEAR | DANIEL
SHAM | LILIA | M.
SHAMMAH | DANIA | EL-HAJJ
SHAO | CHANGFENG
SHAPIRA | AMIT
SHAPIRA | ANAT
SHAPIRA | LIOR
SHAPIRA | NAAMA
SHAPIRA | YAEL | R.
SHARMA | AJAY
SHEAHAN | BARBARA | BRIDGET
SHEPHERD | SHELLEY | ANNE
SHI | JIAN
SHI | XUEPENG
SHIN | SUNGWOO
SHINDLER | AMY | NICOLE
SHINKAWA | NOBUHIRO
SHINKAWA | TAKESHI
SHIUE | JASON | H.
SHORE | KEVIN
SHOVLIN | GERARD | FRANCIS
SHRYOCK | LAURA | JANE
SHUCK | MICHELLE | ANNE
SHULMAN | NORMAN | VICTOR
SHURCLIFF | KATHLEEN | SHARON
SINCLAIR | ERIC | JUSTIN
SINGH | ARCHANA
SIU | HENRY | EUGENE
SJOMAN | PER | JOHAN MATS
SKINNER | ERIC | TALIA
SLATER | TAMMY | J.
SMITH | JUDITH | MAXINE
SMITH | PETER
SMITH | WENCHE | ELIN
SNYDER | TIMOTHY | SCOTT
SOLVASON | SIMON
SPEER | KARIN
SPEER | RICHARD | ROBERT
SPEISSEGGER | OLIVIER | GEORGES
SPRINGER | TOBIAS | SHAW
ST PIERRE | JEAN | CLERMONT
STABEL | ADRIANUS | F.
STAEDTLER | ANDREA
STANLEY | GEORGE | WILLIAM SLOANE
STARR | JESSICA | E. A.
STAUDT | ADAM | MICHAEL
STEIN | NATALIE | MARIA
STEVENS | ANJA
STEVENSON IV | WILLIAM | ALLEN
STEWART | NANCY | JANE
STOCKMAN | KATE | ELIZABETH
STRAUB | RENEE | MARIA
SUN | PEIQI
SUZUKI | KATSUMI
SWEETING | ANDREW | CHARLES GARTH
SZELE | ALEXANDER | JOSEPH
TABET | MICHELLE | CAROLE
TATKO | MELISSA | JAMIE
TATSUMI | YUKAKO
TATSUMURA | MINAKO
TAYLOR | SUZANNE | MARIE
TAYLOR | WAYNE | WARREN
THIRD | DAVID | ROBERT
THOMAS | HARLE
THOMAS | QUINN | SIMON BERSTEIN
TIAN | WEI
TIBER | MITCHELL | R.
TISTL | INGRID | ELISABETH
TOPPER | SHERYL | LYNN
TOROKVEI | CAITLIN | ALEXIS
TRENKA | JANE | JEONG
TRIANTAFYLLIDOU | MARGARITA | MAGDALINI
TRONCO | ROSANNA
TRONNIER | TOSCA | HELENA SOPHIE
TSEUNG | TUNG | ANTHONY
TUROCK | MITCHELL | BRUCE
TURTLE | CAMERON | JOHN
UEBELHART-MINIKUS | KATHERINE | ANNE
UNGER | LAURA | SIOBHAN
VALDERRAMA CHOPITEA | ANITA
VAN BEEK | ROBERT | ANTHONY
VAN BERKEL | DELIA | JESSICA
VAN CAMP | INGRID | VIKTORIA
VAN CLEEF | PETRUS | H. J.
VAN DER HEIJDE | PAUL | K.
VAN DER SCHAAR | AUKE | SJOERD
VAN DER SCHAAR | MIHAELA
VAN LEEUWEN | ANNA | ELISABETH
VARCOE | BEVERLY | ELIZABETH
VARMA | KRISTEN | MARIE
VASILE | ANTHONY | JOSEPH JAMES
VETTER | JONAS | RAPHAEL
VILLAVIEJA | DIANE
VLACHOS | JOANNES
VOULOUMANOS | ATHENA
WAGNER | SOPHIA | ANNA
WAGNER | STEPHANIE
WAITE | LAURA | KRISTINE
WALDMANN | PETER
WALLACE | HENRY | DANIEL
WALLACH | JACQUELINE | BEATRICE
WALLACH | NATALIE | LOUISE
WANG | ANBANG
WANG | XIAO | QIAN
WANG | ZHONG | KAI
WANG | YONGGUANG
WANG | YUHUI
WATANABE | GEN
WATANABE | KINYA
WATANABE | MIZUHO
WATKINS | JOHN | JAMES
WATKINS | SEBASTIAN | HAROLD
WATKINS | TARA | LOUISE
WATSON | BRENT | DONALD
WECKX | TIMOTHY
WEILL | PETER | D.
WEISBERG | SHERI | INA
WEISS | SILAS | KAWIKA
WELTY ROCHERFORT | HARRIET | ALICE
WENZEL | ERIC
WEYANT | ROBERT | BENSON
WHITE | CLARE | DOVETON
WHITE | WILLIAM | DEMPSTER
WIERSCH | NORMAN
WILKINS | DENICE | LYNN
WILL | CYNTHIA
WILLEMSEN | MARY | ELLEN
WILSON | ANDREA | LEE
WILSON | MICHAEL | ARNOLD
WILTSHIRE-BUTLER | JOHN | CHARLES
WIND | MICHAEL | ALEXANDER
WINGFIELD | MARIANNE
WOHLLEIB | WILLIAM | EDMOND
WOLFF | DIETER
WOO | KYUNG | HO
WOOD | DILLON | LEE
WOOD, JR | ROBERT | FRANKLIN
WOODBURN | RALPH | DAVID
WORMLEY | DAVID | CHARLES
WRIGHT | WILLIAM | R.
WU | QIONG
WULFF | ADAM | THEODORE
XUE | MIN
XUEREB AUSTIN | LAUREN | ALEXANDRA HANSON
YANG | JANE
YANG | MEIFANG
YONG | PEI | HAN
YOSHINO | HIROYASU
YOSHINO | MIHOKO
YOUNGQUIST | KAREN | ELIZABETH
YU | PEI | LEI
ZEENDER | LEO | VICTOR PEDRO
ZEH | NICOLE
ZENG | LI
ZHANG | YAN
ZHAO | JINGRAN
ZIEBA | RENATA
ZOMERDIJK | MARIA | ALIDA
ZUCCALA | ALEXANDRA | KATHERINE
ZUCCALA | ANDREW | GREGORY

Dated: October 24, 2023.
Steven B. Levine,
Manager Team 1940, CSDC—Compliance Support, Development & Communications.

[FR Doc. 2023-23807 Filed 10-27-23; 8:45 am]

BILLING CODE 4830-01-P